NUCLEAR REGULATORY COMMISSION

[Docket No. 40-09091; NRC-2011-0148]

Strata Energy, Inc.; Ross Uranium In-Situ Recovery Facility; Source and Byproduct Materials License

AGENCY: Nuclear Regulatory Commission.

ACTION: Record of decision; update.

SUMMARY: The U.S. Nuclear Regulatory Commission (NRC) has issued an updated Record of Decision (ROD) related to the license for Strata Energy, Inc. (Strata), Ross Uranium In-Situ Recovery (ISR) Facility in Crook County, Wyoming. Strata's request for a source and byproduct materials license for the Ross ISR facility was contested through the NRC's adjudicatory process. On June 29, 2016, the Commission denied a petition for review of the Atomic Safety and Licensing Board's (ASLB) decision. The ROD has been updated to account for the ASLB's decision and the Commission's ruling.

DATES: The ROD was updated as of September 28, 2016.

ADDRESSES: Please refer to Docket ID NRC-2011-0148 when contacting the NRC about the availability of information regarding this document. You may access publicly-available information related to this document using any of the following methods:

• Federal Rulemaking Web site: Go to http://www.regulations.gov and search for Docket ID NRC-2011-0148. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin WBA Search.” For problems with ADAMS, please contact the NRC's Public Document Room (PDR) reference staff at 1-800-397-4209, 301-415-4737, or by email to pdr.resource@nrc.gov. For the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Jessie Muir-Quintero, Office of Nuclear Material Safety and Safeguards, U.S. Nuclear Regulatory Commission, Washington DC 20555-0001; telephone: 301-415-7476; email: Jessie.Muir-Quintero@nrc.gov.

SUPPLEMENTARY INFORMATION:

I. Discussion

The NRC issued a license to Strata for its Ross ISR Facility in Crook County, Wyoming in April 2014. Along with the issuance of the license, the NRC published a ROD that supported its decision to approve Strata's license application for the Ross ISR Facility.

After the license was issued, the NRC's ASLB, an independent, trial-level adjudicatory body, granted a hearing request from joint intervenors, the Natural Resources Defense Council and the Powder River Basin Resource Council. The ASLB held an evidentiary hearing from September 30, 2014, through October 1, 2014, for three admitted contentions on environmental matters related to the licensing of the Ross ISR Facility. In its initial decision following the hearing, the ASLB ruled in favor of Strata and the NRC on all three contentions. In doing so, the ASLB supplemented the ROD to include a revised license condition (10.12) and additional analyses that were placed on the record by various parties. In June 2016, the Commission denied a petition for review of the ASLB's decision. The NRC's initial ROD was published on April 24, 2014. The updated ROD accounts for the ASLB's decision and the Commission's ruling.

II. Availability of Documents

The documents identified in the following table are available to interested persons as indicated.

Item No. | Document title | ADAMS Accession No.
1 | Generic Environmental Impact Statement for In-Situ Leach Uranium Milling Facilities, May 2009 | ML091530075
2 | Strata Energy, Inc., Materials License Application, January 4, 2011 | ML110120063
3 | Supplemental Information, February 28, 2011 | ML110800187
4 | ASLB Decision, February 10, 2012 | ML12041A295
5 | Response to Request for Additional Information, March 30, 2012 | ML121030404
6 | Response to Request for Additional Information, April 6, 2012 | ML121020343
7 | Clarification to RAI Responses, August 10, 2012 | ML12227A369
8 | Technical Report Replacement Pages, January 18, 2013 | ML130370654
9 | Containment Barrier Wall Construction Update, October 14, 2013 | ML13295A230
10 | Safety Evaluation Report Suggested Corrections, October 17, 2013 | ML13296A026
11 | Technical Report Replacement Pages, February 19, 2014 | ML14051A020
12 | Environmental Impact Statement for the Ross ISR Project in Crook County, Wyoming, Supplement to the Generic Environmental Impact Statement for In-Situ Leach Uranium Milling Facilities, Draft Report for Public Comments, March 31, 2013 | ML13078A036
13 | Environmental Impact Statement for the Ross ISR Project in Crook County, Wyoming, Supplement to the Generic Environmental Impact Statement for In-Situ Leach Uranium Milling Facilities, Final Report, February 28, 2014 | ML14056A096
14 | Programmatic Agreement for Protection of Cultural Resources, April 2014 | ML14111A346
15 | NRC Safety Evaluation Report, April 18, 2014 | ML14108A088
16 | Source and Byproduct Materials License SUA-1601, April 24, 2014 | ML14069A315
17 | NRC Staff's Record of Decision, April 24, 2014 | ML14073A107
18 | Natural Resource Defense Council's Powder River Basin Resource Council's Petition for Review of Atomic Safety and Licensing Board's January 23, 2015 Initial Decision Denying Environmental Contentions 1 Through 3, and Interlocutory Decisions Denying Environmental Contentions ⅘ and 6/7, February 17, 2015 | ML15048A103
19 | ASLB Decision, January 23, 2015 | ML15023A566
20 | Commission Decision, CLI-16-13 Memorandum and Order, June 29, 2016 | ML16181A107
21 | NRC Staff's Updated Record of Decision, September 28, 2016 | ML16230A021

Dated at Rockville, Maryland, this 28th day of September 2016.
For the Nuclear Regulatory Commission.
Craig G. Erlanger,
Director, Division of Fuel Cycle Safety, Safeguards and Environmental Review, Office of Nuclear Material Safety and Safeguards.

[FR Doc. 2016-24196 Filed 10-5-16; 8:45 am]

BILLING CODE 7590-01-P